DEPARTMENT OF THE INTERIOR

National Park Service

[NPS-WASO-NRNHL-DTS#-40417; PPWOCRADI0, PCU00RP14.R50000]

National Register of Historic Places; Notification of Pending Nominations and Related Actions

AGENCY: National Park Service, Interior.

ACTION: Notice.

SUMMARY: The National Park Service is soliciting electronic comments on the significance of properties nominated before June 7, 2025, for listing or related actions in the National Register of Historic Places.

DATES: Comments should be submitted electronically by July 15, 2025.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 2013, Washington, DC 20240.

FOR FURTHER INFORMATION CONTACT: Sherry A. Frear, Chief, National Register of Historic Places/National Historic Landmarks Program, 1849 C Street NW, MS 2013, Washington, DC 20240, sherry_frear@nps.gov, 202-913-3763.

SUPPLEMENTARY INFORMATION: The properties listed in this notice are being considered for listing or related actions in the National Register of Historic Places. Nominations for their consideration were received by the National Park Service before June 7, 2025. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

Key: State, County, Property Name, Multiple Name (if applicable), Address/Boundary, City, Vicinity, Reference Number.

CALIFORNIA

El Dorado County

Coloma Community Hall, 319 CA 49, Coloma, SG100012016

Los Angeles County

University High School Administration Building, (Asian Americans and Pacific Islanders in California, 1850-1995 MPS), 11800 Texas Avenue, Los Angeles, MP100012003

Placer County

Westphal, Laura Russ, House, 2540 West Lake Boulevard, Homewood, SG100012018

COLORADO

Arapahoe County

South Dahlia Lane, 2401-2465 (odd numbers) South Dahlia Lane, Denver, SG100012015

GEORGIA

Dougherty County

Downtown Albany Commercial Historic District, The district is roughly bound by Oglethorpe Alley on the south, Front Street on the east. Roosevelt Avenue on the north, and Jefferson Street on the west, Albany, SG100012022

McDuffie County

Thomson Commercial Historic District (Boundary Increase and Decrease), Roughly bounded by Journal St., Greenway St., Railroad St., Hendricks St., and Church St., Thomson, BC100012006

MARYLAND

Prince George's County

Eagle Harbor Historic District, (African-American Historic Resources of Prince George's County, Maryland), Roughly bounded by the Patuxent River, Oak Trail, the southern portion of Hawkins Drive, Lincoln Park and Lincoln and Walnut Drives, Trueman Point Road/Eagle Harbor Road, and the northwest boundary with Cedar Haven, Eagle Harbor, MP100012009

Talbot County

Fond Hope, (Women In Maryland Architecture, 1920-1970 MPS), 27283 Baileys Neck Rd., Easton, MP100012008

MONTANA

Cascade County

Albright Historic District, 38 Evans Riceville Road, Belt, SG100012017

OHIO

Belmont County

Epworth Park Historic District, 215 N Main Street, Bethesda, SG100012004

Summit County

Homeier-Universal Motor Company Building, 816 E Market Street, Akron, SG100012019

Trumbull County

Newton Falls Downtown Historic District, Broad Street, roughly bounded by Canal and Center Streets, Newton Falls, SG100012005

UTAH

Carbon County

Toovuhsuhvooch Archaeological District, (Nine Mile Canyon, Utah MPS), Address Restricted, Wellington vicinity, MP100012021

Tooele County

Clover Ward LDS Meetinghouse, 630 S West Shambip Rd., Rush Valley, SG100012012

Washington County

Springdale Hilltop Cemetery, 110 Winderland Lane, Springdale, SG100012025

WISCONSIN

Marquette County

St. John's Evangelical Lutheran Church, W3005-W3008 County Road E, Crystal Lake, SG100012024

A request for removal has been made for the following resource(s):

SOUTH CAROLINA

Calhoun County

Zante Plantation, SE of Fort Motte off SC 601, Fort Motte vicinity, OT76001695

Darlington County

Lide, Evan J., House, (Springville MRA), W of CR 228 NW of SC 34, Springville, OT85003139

Additional documentation has been received for the following resource(s):

GEORGIA

McDuffie County

Thomson Commercial Historic District (Additional Documentation), Along Main/Jackson Street from White Oak Street to one parcel south of National Avenue and from Church Street to Greenway Street north of the railroad, Thomson, AD89000413

Authority: Section 60.13 of 36 CFR part 60.

Sherry A. Frear,
Chief, National Register of Historic Places/National Historic Landmarks Program.

[FR Doc. 2025-12010 Filed 6-27-25; 8:45 am]

BILLING CODE 4312-52-P